DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from December 7 to December 11, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: February 23, 2010.
J. Paul Loether,
Chief, National Register of Historic Places/National Historic Landmarks Program.

KEY: State, County, Property Name, Address/Boundary, City, Vicinity, Reference Number, Action, Date, Multiple Name

FLORIDA

Citrus County

Etna Turpentine Camp Archeological Site, Address Restricted, Inverness vicinity, 09001055, LISTED, 12/10/09

GEORGIA

Carroll County

Bowdon Historic District, Roughly centered along GA 166 and GA 100, Bowdon, 09001056, LISTED, 12/08/09

ILLINOIS

Cook County

East Village Historic District, Bounded by Division St. and Chicago, Hermitage and Damen Aves., Chicago, 09000459, LISTED, 12/08/09 (Ethnic (European) Historic Settlement in the city of Chicago (1860-1930))

Jo Daviess County

Chapman, John, Village Site, Address Restricted, Hanover vicinity, 09001058, LISTED, 12/10/09

LOUISIANA

Washington Parish

Moore, Bouey, Homestead, 19068 Moore Rd., Franklinton vicinity, 09001059, LISTED, 12/08/09

MARYLAND

Anne Arundel County

Queenstown Rosenwald School, 430 Queenstown Rd., Severn, 09001060, LISTED, 12/08/09 (Rosenwald Schools of Anne Arundel County, Maryland MPS)

Baltimore (Independent City)

East Monument Historic District, N. Washington St. on the W; Amtrak rail line on the N. to E. St.; S. to Monument and E to Highland Ave.;, Baltimore, 09001061, LISTED, 12/08/09

MICHIGAN

Macomb County

Wolcott Mill, 63841 Wolcott Rd., Ray, 09001063, LISTED, 12/08/09

Manistee County

Orchard Beach State Park, 2064 N. Lakeshore Rd., Manistee, 09001064, LISTED, 12/08/09

Mason County

S.S. BADGER (carferry), 700 S. William St., Ludington, 09000679, LISTED, 12/11/09

Presque Isle County

Hoeft, P.H., State Park, 5001 US 23 N., Rogers, 09001065, LISTED, 12/08/09

Onaway State Park, 3622 MI 211 N., North Allis, 09001066, LISTED, 12/08/09

Wayne County

Koebel, Charles J. and Ingrid V. (Frendberg), House, 203 Cloverly Rd., Grosse Pointe Farms, 09001068, LISTED, 12/08/09

Michigan Bell and Western Electric Warehouse, 882 Oakman Blvd., Detroit, 09001069, LISTED, 12/08/09

MINNESOTA

Blue Earth County

Dodd Ford Bridge, Co. Rd. 147 over Blue Earth River, Shelby vicinity, 09001070, LISTED, 12/09/09 (Iron and Steel Bridges in Minnesota MPS)

NEBRASKA

Wayne County

Wayne Commercial Historic District, S. Main, N. Main and 2nd St., Wayne, 09001071, LISTED, 12/08/09

NEW JERSEY

Essex County

Anderson Park, SE corner of Bellevue and North Mountain Ave., Montclair, 09001073, LISTED, 12/11/09

Hunterdon County

Case-Dvoor Farmstead, 111 Mine St., Raritan, 09001074, LISTED, 12/11/09

Morris County

Montville Schoolhouse, 6 Taylortown, Montville, 09001075, LISTED, 12/11/09

Vreeland, Nicholas, Outkitchen, 52 Jacksonville Rd., Towaco, Montville, 09001076, LISTED, 12/11/09 (Dutch Stone Houses in Montville MPS)

Whippany Burying Yard, NJ 10, Hanover, 09001077, LISTED, 12/11/09

Sussex County

Casper and Abraham Shafer Grist Mill Complex, 928 Main St., Stillwater Township, 09000653, LISTED, 12/10/09

Union County

All Souls Church, 724 Park Ave., Plainfield City, 09001078, LISTED, 12/11/09

Frazee, Elizabeth and Gershom, House, 1451 Raritan Rd., Scotch Plains, 09000971, LISTED, 12/07/09

NEW YORK

Albany County

Norman Vale, 6030 Nott Rd., Guilderland, 09001079, LISTED, 12/11/09 (Mexico MPS)

Cortland County

Stage Coach Inn, 2548 Clarks Corners Rd., Lapeer, 09001080, LISTED, 12/11/09

Kings County

Congregational Church of the Evangel, 1950 Bedford Ave., Brooklyn, 09001081, LISTED, 12/11/09

Ocean Parkway Jewish Center, 550 Ocean Pkwy., Brooklyn, 09001082, LISTED, 12/11/09

Madison County

Chittenango Pottery, 11-13 Pottery St., Chittenango, 09001083, LISTED, 12/11/09

Nassau County

DuPont-Guest Estate, S. side of Northern Blvd. between Cotillion Ct. & DuPont Ct., Brookville, 09001084, LISTED, 12/11/09

New York County

Westbeth, 55 Bethune St., New York, 09001085, LISTED, 12/08/09

Queens County

Church-in-the-Gardens, The, 50 Ascan Ave., Forest Hills, 09001086, LISTED, 12/11/09

Sullivan County

Jewish Center of Lake Huntington, 13 Co. Rd. 116, Lake Huntington, 09001087, LISTED, 12/11/09

Wayne County

Preston-Gaylord Cobblestone Farmhouse, 7563 Lake Rd., Sodus, 09001088, LISTED, 12/11/09 (Cobblestone Architecture of New York State MPS)

NORTH CAROLINA

Currituck County

Jarvisburg Colored School, 7301 NC 158, Jarvisburg, 09001104, LISTED, 12/11/09

Durham County

Hope Valley Historic District, Avon Rd., Chelsea Circle, Cornwall Rd., Devon Rd. Exeter Way, Littlewoods Ln., Norwich Way, Stratford Rd., Durham, 09001105, LISTED, 12/11/09 (Durham MRA)

SOUTH CAROLINA

Richland County

Spigner, A. Fletcher, House, 2028 Wheat St., Columbia, 09001107, LISTED, 12/11/09

VIRGINIA

Albemarle County

Lewis Mountain, 1 Lewis Mountain Pkwy., Charlottesville vicinity, 09001052, LISTED, 12/07/09

[FR Doc. 2010-4450 Filed 3-3-10; 8:45 am]

BILLING CODE 4312-51-P